DEPARTMENT OF TRANSPORTATION

Federal Railroad Administration

[Docket No. FRA-1999-6439, Notice No. 10]

RIN 2130-AA71

Use of Locomotive Horns at Highway-Rail Grade Crossings

AGENCY: Federal Railroad Administration (FRA), Department of Transportation (DOT).

ACTION: Notice of availability.

SUMMARY: FRA announces that information on whether existing whistle ban jurisdictions may qualify as Pre-Rule Quiet Zones under the Interim Final Rule on the Use of Locomotive Horns at Highway-Rail Grade Crossings has been placed in the public docket of this proceeding and also placed on FRA's Web site.

ADDRESSES: The document entitled “Status of Existing Whistle Bans under the Train Horn Rule” is available in DOT's Docket Management Facility, U.S. Department of Transportation, 400 Seventh Street, SW., Nassif Building, Room PL-401, Washington, DC 20590-001. It is also available on the Docket Management Facility's Internet site at http://dms.dot.gov and on FRA's web site at http://www.fra.dot.gov.

SUPPLEMENTARY INFORMATION: On December 18, 2003, FRA published in the Federal Register (68 FR 70586) an interim final rule requiring that a locomotive horn be sounded while a train is approaching and entering a public highway-rail crossing. The rules also provide for an exception to the above requirement in circumstances in which there is not a significant risk of loss of life or serious personal injury, use of the locomotive horn is impractical, or safety measures fully compensate for the absence of the warning provided by the horn.

FRA has placed in the public docket (Docket No. FRA-1999-6439, Document No. 2509) and on FRA's Web site (http://www.fra.dot.gov), a document entitled “Status of Existing Whistle Bans under the Train Horn Rule.” This document provides FRA's best estimate at the present time as to whether specific existing whistle ban jurisdictions may qualify as Pre-Rule Quiet Zones under the Interim Final Rule without taking additional steps to reduce risk.

FOR FURTHER INFORMATION CONTACT: Ron Ries, Office of Safety, FRA, 1120 Vermont Avenue, NW., Washington, DC 20590 (telephone: 202-493-6299); or Kathryn Shelton, Office of Chief Counsel, FRA, 1120 Vermont Avenue, NW., Washington, DC 20590 (telephone: 202-493-6038).

Issued in Washington, DC, on February 3, 2004.
Grady C. Cothen, Jr.,
Deputy Associate Administrator for Safety Standards and Program Development.

[FR Doc. 04-2636 Filed 2-5-04; 8:45 am]

BILLING CODE 4910-06-P